DEPARTMENT OF DEFENSE

Department of the Army

[Docket ID: USA-2023-HQ-0005]

Proposed Collection; Comment Request

AGENCY: U.S. Army Corps of Engineers (USACE), Department of the Army, Department of Defense (DoD).

ACTION: 60-Day information collection notice.

SUMMARY: In compliance with the Paperwork Reduction Act of 1995, the U.S. Army Corps of Engineers announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by April 24, 2023.

ADDRESSES: You may submit comments, identified by docket number and title, by any of the following methods:

Federal eRulemaking Portal: https://www.regulations.gov. Follow the instructions for submitting comments.

Mail: Department of Defense, Office of the Assistant to the Secretary of Defense for Privacy, Civil Liberties, and Transparency, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Headquarters, U.S. Army Corps of Engineers, 441 G Street NW, Washington, DC 20314-1000, ATTN: Mr. Matt Wilson, or call 202-761-5856.

SUPPLEMENTARY INFORMATION:

Title; Associated Form; and OMB Number: Wetland Determination Automated Data Sheets and Jurisdictional Determination Forms; ENG Form 6116 (1-9); OMB Control Number 0710-0024.

Needs and Uses: In an effort to address regional wetland characteristics and improve the accuracy and efficiency of wetland delineation procedures, the USACE Research and Development Center (ERDC) developed ten regional supplements to the USACE manual, the most recent of which were issued in 2006. In developing the regional supplements, the USACE recognized that a single national manual is unable to consider regional differences that are important to the identification and functioning of wetlands. The wetland indicators and guidance provided in the 10 regional supplements are designed to be used in combination with the USACE manual to identify wetland waters of the United States. These forms are most often completed by USACE Project Managers or environmental consultants, but may also be completed by applicants themselves. The Automated Wetland Determination Sheets (ADSs) in this collection package streamline the information collection process by incorporating reference material and analytical processes directly into the form, which is provided as a Microsoft Excel document rather than the PDF form included in the regional supplements. The ADSs also automatically complete data analysis using inputted information, saving users time and effort, and reducing the likelihood of human error. Applicants for USACE permits are generally required to submit JDs as part of their permit application or in support of the permit evaluation process. If wetlands are present, the USACE generally requires that JDs include adequately documented wetland data sheets in order for the JD to be considered technically adequate. The ADSs are formatted such that they may be readily converted to Portable Document Format (PDF) for inclusion as part of the applicant's JD report.

Jurisdictional Determination Forms are tools used by the USACE to help implement Section 404 of the Clean Water Act (CWA) and Sections 9 and 10 of the Rivers and Harbors Act of 1899 (RHA). JDs specify what geographic areas will be treated as subject to regulation by the USACE under one or both statutes. This information collection request has previously included three types of JDs; the Approved Jurisdictional Determination (AJD), Dry Land AJD, and Preliminary Jurisdictional Determination (PJD). The AJD form provides an official determination that there are/are not jurisdictional aquatic resources on a parcel based on the jurisdictional requirements, while the Dry Land AJD provides official determination that jurisdictional aquatic resources are absent. The PJD form is used to determine whether aquatic resources that exist on a particular parcel “may be” subject to regulatory jurisdiction. On January 18, 2023, the U.S. Environmental Protection Agency and the U.S. Department of the Army announced a final rule revising the definition of “waters of the United States” at 33 CFR 328.3 (“the 2023 Rule”). The 2023 Rule is scheduled to become effective on March 20, 2023. The Corps is proposing to document the basis for AJDs made pursuant to the 2023 Rule using the “2023 Rule AJD Form.” This form will be used by Corps district staff to document the basis for its AJDs completed pursuant to the 2023 Rule. The 2023 Rule AJD Form provides a highly efficient and organized process for collecting and summarizing jurisdictional basis information. Specifically, the 2023 Rule AJD Form will streamline collection of the jurisdictional basis information using information response prompts that allow the Corps Regulatory staff to document complex information accurately and fully with minimal effort from the public.

Affected Public: Individuals or households.

Annual Burden Hours: 34,960.

Number of Respondents: 33,279.

Responses per Respondent: 1.

Annual Responses: 33,279.

Average Burden per Response: 63.03 minutes.

Frequency: On Occasion.

Dated: February 14, 2023.
Aaron T. Siegel,
Alternate OSD Federal Register Liaison Officer, Department of Defense.

[FR Doc. 2023-03499 Filed 2-17-23; 8:45 am]

BILLING CODE 5001-06-P